DEPARTMENT OF TRANSPORTATION

Federal Aviation Administration

14 CFR Part 39

[Docket No. 2003-NM-68-AD; Amendment 39-13380; AD 2003-24-11]

RIN 2120-AA64

Airworthiness Directives; McDonnell Douglas Model MD-11 Airplanes

AGENCY: Federal Aviation Administration, DOT.

ACTION: Final rule.

SUMMARY: This amendment supersedes an existing airworthiness directive (AD), applicable to certain McDonnell Douglas Model MD-11 airplanes, that currently requires repetitive general visual inspections of the power feeder cables, terminal strip, fuseholder, and fuses of the galley load control unit (GLCU) within the No. 3 bay electrical power center (EPC) to detect damage; and corrective actions, if necessary. For certain airplanes, this amendment requires replacement of the electrical wiring of the galley in the EPC. For certain other airplanes, this amendment requires an inspection to detect damage of the electrical wiring of the galley in the EPC; corrective actions if necessary; modification of the wiring support; and removal of spare fuses; as applicable. These new actions terminate the repetitive inspection requirements. This amendment also limits the applicability of the existing AD. This amendment is prompted by the FAA's determination that additional rulemaking is necessary. The actions specified by this AD are intended to prevent chafing damage to the wire assembly, and consequent arcing and smoke and fire in the EPC, and to prevent damage to the wire assembly terminal lugs and overheating of the power feeder cables on the No. 3 and No. 4 GLCU, which could result in smoke and fire in the center accessory compartment. This action is intended to address the identified unsafe condition.

DATES: Effective January 8, 2004.

The incorporation by reference of a certain publication, as listed in the regulations is approved by the Director of the Federal Register as of January 8, 2004.

The incorporation by reference of certain other publications, as listed in the regulations, was approved previously by the Director of the Federal Register as of January 4, 2000 (64 FR 71001, December 20, 1999).

ADDRESSES: The service information referenced in this AD may be obtained from Boeing Commercial Airplane Group, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the Office of the Federal Register, 800 North Capitol Street, NW., suite 700, Washington, DC.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) by superseding AD 2002-17-06, amendment 39-12872 (67 FR 55716, August 30, 2002), which is applicable to certain McDonnell Douglas Model MD-11 airplanes, was published in the Federal Register on August 27, 2003 (68 FR 51523). The action proposed to continue to require repetitive general visual inspections of the power feeder cables, terminal strip, fuseholder, and fuses of the galley load control unit (GLCU) within the No. 3 bay electrical power center (EPC) to detect damage; and corrective actions, if necessary. For certain airplanes, that action proposed to require replacement of the electrical wiring of the galley in the EPC. For certain other airplanes, that action proposed to require an inspection to detect damage of the electrical wiring of the galley in the EPC; corrective actions if necessary; modification of the wiring support; and removal of spare fuses; as applicable. Those new actions would terminate the repetitive inspection requirements. That action also proposed to limit the applicability of the existing AD.

Comments

Interested persons have been afforded an opportunity to participate in the making of this amendment. No comments were submitted in response to the proposal or the FAA's determination of the cost to the public.

Conclusion

The FAA has determined that air safety and the public interest require the adoption of the rule as proposed.

Cost Impact

There are approximately 112 airplanes of the affected design in the worldwide fleet. The FAA estimates that 32 airplanes of U.S. registry will be affected by this AD.

The inspection that is currently required by AD 2002-17-06 and retained in this AD takes approximately 1 work hour per airplane to accomplish, at an average labor rate of $65 per work hour. Based on these figures, the cost impact of the currently required inspection on U.S. operators is estimated to be $2,080, or $65 per airplane, per inspection cycle.

Table 1 of this AD shows the estimated cost impact of the new actions for airplanes affected by this AD. The average labor rate is $65 per work hour. Table 1 is as follows:

Table 1.—Cost Estimate
Task | For group 1 airplanes: Work hours | For group 1 airplanes: Required parts | For group 1 airplanes: Cost per airplane | For group 2 airplanes: Work hours | For group 2 airplanes: Required parts | For group 2 airplanes: Cost per airplane
Replacement | 18 | $15,276 | $16,446 | 19 | $17,261 | $18,496

Task | For group 3 airplanes: Work hours | For group 3 airplanes: Required parts | For group 3 airplanes: Cost per airplane | For group 4 airplanes: Work hours | For group 4 airplanes: Required parts | For group 4 airplanes: Cost per airplane
Inspection | 1 | None | $65 | 1 | None | $65
Modification | 2 | $190 | $320 | 1 | $9 | $74

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this AD, subject to warranty conditions. Manufacturer warranty remedies may also be available for labor costs associated with this AD. As a result, the cost attributable to this AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12872 (67 FR 55716, August 30, 2002), and by adding a new airworthiness directive (AD), amendment 39-13380, to read as follows:

2003-24-11 McDonnell Douglas: Amendment 39-13380. Docket 2003-NM-68-AD. Supersedes AD 2002-17-06, Amendment 39-12872.

Applicability: Model MD-11 airplanes, as listed in Boeing Service Bulletin MD11-24-184, Revision 02, dated January 7, 2003; certificated in any category.

Compliance: Required as indicated, unless accomplished previously.

To prevent chafing damage to the wire assembly, and consequent arcing and smoke and fire in the electrical power center (EPC), and to prevent damage to the wire assembly terminal lugs and overheating of the power feeder cables on the No. 3 and No. 4 galley load control unit (GLCU), which could result in smoke and fire in the center accessory compartment; accomplish the following:

Certain Requirements of AD 2002-17-06, Amendment 39-12872

Initial Inspection

(a) Do a general visual inspection of the power feeder cables, terminal strip, fuseholder, and fuses of the GLCU within the No. 3 bay EPC to detect damage (i.e., discoloration of affected parts or loose attachments), per McDonnell Douglas Alert Service Bulletin MD11-24A160, dated August 30, 1999; or Revision 01, dated November 11, 1999; at the applicable time specified in paragraph (a)(1) or (a)(2) of this AD.

(1) For airplanes on which the replacement required by paragraph (c) of AD 2002-14-05, amendment 39-12805, has been done: Inspect within 60 days after September 16, 2002 (the effective date AD 2002-17-06, amendment 39-12872).

(2) For airplanes on which the replacement required by paragraph (c) of AD 2002-14-05 has not been done: Inspect within 600 flight hours from the last inspection required by AD 2002-14-05, or within 60 days after September 16, 2002, whichever occurs later.

Note: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

No Damage Detected: Repetitive Inspections

(b) If no damage is detected during any inspection required by paragraph (a) of this AD, repeat the general visual inspection every 600 flight hours.

Damage Detected: Replacement and Repetitive Inspections

(c) If any damage is detected during any inspection required by paragraph (a) of this AD, before further flight, replace the power feeder cables, fuseholder, and/or fuses, as applicable, with new parts, per McDonnell Douglas Alert Service Bulletin MD11-24A160, dated August 30, 1999; or Revision 01, dated November 11, 1999. Repeat the general visual inspection every 600 flight hours.

New Requirements of This AD

Group 1 and Group 2 Airplanes: Replacement of Electrical Wiring

(d) For Group 1 and Group 2 airplanes identified in Boeing Service Bulletin MD11-24-184, Revision 02, dated January 7, 2003: Within 12 months after the effective date of this AD, replace the electrical wiring of the galley in the EPC in bays 1, 2, and 3, per the service bulletin. Accomplishment of the replacement terminates the requirements of paragraphs (a) through (c) of this AD.

Group 3 and Group 4 Airplanes: Inspection for Damage, Modification of Wiring Support, Removal of Fuses; and Corrective Action; as Applicable

(e) For Group 3 and Group 4 airplanes identified in Boeing Service Bulletin MD11-24-184, Revision 02, dated January 7, 2003: Within 12 months after the effective date of this AD, do the actions specified in paragraphs (e)(1), (e)(2), and (e)(3) of this AD per the service bulletin. Accomplishment of the applicable actions in those paragraphs terminates the requirements of paragraphs (a) through (c) of this AD.

(1) Do a general visual inspection to detect damage of the electrical wiring of the galley in the EPC in bays 1, 2, and 3. If any damage is detected, before further flight, repair or replace damaged wiring with new or serviceable wiring per the service bulletin.

(2) Modify wiring support in bay 1.

(3) Remove spare fuses and modify wiring support in bays 2 and 3.

Alternative Methods of Compliance

(f)(1) In accordance with 14 CFR 39.19, the Manager, Los Angeles Aircraft Certification Office (ACO), FAA, is authorized to approve alternative methods of compliance for this AD.

(2) Alternative methods of compliance, approved previously per AD 2002-17-06, amendment 39-12872, are approved as alternative methods of compliance with paragraphs (a) through (c) of this AD.

Incorporation by Reference

(g) The actions shall be done in accordance with McDonnell Douglas Alert Service Bulletin MD11-24A160, dated August 30, 1999; or McDonnell Douglas Alert Service Bulletin MD11-24A160, Revision 01, dated November 11, 1999; and Boeing Service Bulletin MD11-24-184, Revision 02, dated January 7, 2003; as applicable.

(1) The incorporation by reference of Boeing Service Bulletin MD11-24-184, Revision 02, dated January 7, 2003, is approved by the Director of the Federal Register, in accordance with 5 U.S.C. 552(a) and 1 CFR part 51.

(2) The incorporation by reference of McDonnell Douglas Alert Service Bulletin MD11-24A160, dated August 30, 1999; and McDonnell Douglas Alert Service Bulletin MD11-24A160, Revision 01, dated November 11, 1999; was approved previously by the Director of the Federal Register as of January 4, 2000 (64 FR 71001, December 20, 1999).

(3) Copies may be obtained from Boeing Commercial Airplane Group, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the Office of the Federal Register, 800 North Capitol Street, NW., suite 700, Washington, DC.

Effective Date

(h) This amendment becomes effective on January 8, 2004.

Issued in Renton, Washington, on November 26, 2003.
Kalene C. Yanamura,
Acting Manager, Transport Airplane Directorate, Aircraft Certification Service.

[FR Doc. 03-30112 Filed 12-3-03; 8:45 am]

BILLING CODE 4910-13-P